DEPARTMENT OF LABOR

Employment and Training Administration

[TA-W-53,069]

Fishing Vessel (F/V) Family Pride, Kodiak, AK; Notice of Termination of Investigation

Pursuant to section 221 of the Trade Act of 1974, as amended, an investigation was initiated on September 30, 2003, in response to a petition filed by a company official on behalf of workers of F/V Joseph Booney, Cordova, Alaska. Workers at the subject firm produce frozen salmon.

The Department of Labor issued negative determinations applicable to the petitioning group of workers on August 27, 2003 (TA-W-52,462). No new information or change in circumstances is evident which would result in a reversal of the Department's previous determination. Consequently, further investigation would serve no purpose, and the investigation has been terminated.

Signed at Washington, DC, this 16th day of October, 2003.
Richard Church,
Certifying Officer, Division of Trade Adjustment Assistance.

[FR Doc. 03-29670 Filed 11-26-03; 8:45 am]

BILLING CODE 4510-30-P